DEPARTMENT OF ENERGY

Federal Energy Regulatory Commission

Combined Notice of Filings #1

April 30, 2010.

Take notice that the Commission received the following electric rate filings:

Docket Numbers: ER99-2287-006; ER03-802-008; ER08-401-003; ER08-1385-002.

Applicants: Black Hills Power, Inc., Black Hills/Colorado Electric Utility Co, Cheyenne Light Fuel & Power Company, Black Hills Wyoming, LLC

Description: Notification of Change in Status of Black Hills Power, Inc., et al.

Filed Date: 04/30/2010.

Accession Number: 20100430-5117.

Comment Date: 5 p.m. Eastern Time on Friday, May 21, 2010.

Docket Numbers: ER09-882-001.

Applicants: Entergy Arkansas, Inc.

Description: Compliance Refund Report of Entergy Services, Inc.

Filed Date: 04/28/2010.

Accession Number: 20100428-5062.

Comment Date: 5 p.m. Eastern Time on Wednesday, May 19, 2010.

Docket Numbers: ER10-716-001.

Applicants: Algonquin Power Windsor Locks LLC.

Description: Algonquin Power Windsor Locks LLC submits its Application for Order Accepting Rates for Filing and Granting Waivers and Blanket Approvals, as supplemented on 3/15/2010.

Filed Date: 04/30/2010.

Accession Number: 20100430-0053.

Comment Date: 5 p.m. Eastern Time on Wednesday, May 5, 2010.

Docket Numbers: ER10-844-001.

Applicants: Tampa Electric Company.

Description: Amendatory filing by Tampa Electric Company of service agreement under cost-based power sales tariff.

Filed Date: 04/28/2010.

Accession Number: 20100430-0216.

Comment Date: 5 p.m. Eastern Time on Wednesday, May 19, 2010.

Docket Numbers: ER10-848-001.

Applicants: Tampa Electric Company.

Description: Amendatory filing by Tampa Electric Company of service agreement under cost-based power sales tariff. Volume II of II.

Filed Date: 04/28/2010.

Accession Number: 20100429-0206.

Comment Date: 5 p.m. Eastern Time on Wednesday, May 19, 2010.

Docket Numbers: ER10-989-001.

Applicants: DTE East China, LLC.

Description: DTE East China, LLC submits a replacement Cost-Based Ceiling Tariff Sheet with revised designations to comply with Commission Order 614.

Filed Date: 04/29/2010.

Accession Number: 20100429-0246.

Comment Date: 5 p.m. Eastern Time on Thursday, May 20, 2010.

Docket Numbers: ER10-1125-000.

Applicants: Tampa Electric Company.

Description: Tampa Electric Co. submits Ninth Revised Sheet No. 70 et al to FERC No. 62.

Filed Date: 04/29/2010.

Accession Number: 20100429-0249.

Comment Date: 5 p.m. Eastern Time on Thursday, May 20, 2010.

Docket Numbers: ER10-1126-000.

Applicants: Tampa Electric Company.

Description: Tampa Electric Co. submits Ninth Revised Sheet No. 118 for inclusion in Second Revised Rate Schedule No. 49.

Filed Date: 04/29/2010.

Accession Number: 20100429-0248.

Comment Date: 5 p.m. Eastern Time on Thursday, May 20, 2010.

Docket Numbers: ER10-1127-000.

Applicants: Florida Power Corporation.

Description: Florida Power Corp submits an amendment to Cost-Based Power Sales Agreement with the City of Mount Dora, FL.

Filed Date: 04/29/2010.

Accession Number: 20100429-0253.

Comment Date: 5 p.m. Eastern Time on Thursday, May 20, 2010.

Docket Numbers: ER10-1129-000; ER10-1130-000; ER10-1131-000.

Applicants: U.S. Gas & Electric, Inc., Energy Services Providers, Inc., ESPI New England, Inc.

Description: US Gas and Electric, Inc. et al submit an application for Market-Based Rate Authority etc.

Filed Date: 04/29/2010.

Accession Number: 20100429-0247.

Comment Date: 5 p.m. Eastern Time on Thursday, May 20, 2010.

Docket Numbers: ER10-1132-000.

Applicants: Midwest Independent Transmission System Operator, Inc.

Description: Midwest Independent Transmission System Operator, Inc submits Facilities Construction Agreement etc.

Filed Date: 04/29/2010.

Accession Number: 20100429-0245.

Comment Date: 5 p.m. Eastern Time on Thursday, May 20, 2010.

Docket Numbers: ER10-1133-000.

Applicants: Tampa Electric Company.

Description: Tampa Electric Co. submits revised rate sheet for inclusion in the rate schedules.

Filed Date: 04/29/2010.

Accession Number: 20100429-0250.

Comment Date: 5 p.m. Eastern Time on Thursday, May 20, 2010.

Docket Numbers: ER10-1134-000.

Applicants: Consolidated Edison Company of New York, Inc.

Description: Consolidated Edison Company of New York, Inc. submits amendment to Con Edison's Delivery rate Schedule 96 and amendments to Con Edison's Economic Development Delivery Service Rate Schedule, FERC Rate Schedule 96.

Filed Date: 04/29/2010.

Accession Number: 20100429-0244.

Comment Date: 5 p.m. Eastern Time on Thursday, May 20, 2010.

Docket Numbers: ER10-1135-000.

Applicants: Consolidated Edison Company of New York, Inc.

Description: Consolidated Edison Company of New York, Inc submits a Memorandum of Understanding among Entergy Nuclear Indian Point 2, LLC et al. dated 4/1/2010.

Filed Date: 04/29/2010.

Accession Number: 20100429-0256.

Comment Date: 5 p.m. Eastern Time on Thursday, May 20, 2010.

Docket Numbers: ER10-1136-000.

Applicants: Oklahoma Gas and Electric Company.

Description: Oklahoma Gas and Electric Company submit notice of cancellation of the First Revised Service Agreement No 43 to FERC Electric Tariff, Fifth Revised Volume No 2 with the City of Geary Oklahoma Utilities Authority.

Filed Date: 04/29/2010.

Accession Number: 20100430-0203.

Comment Date: 5 p.m. Eastern Time on Thursday, May 20, 2010.

Docket Numbers: ER10-1137-000.

Applicants: PJM Interconnection, L.L.C.

Description: PJM Interconnection, LLC submits revisions to Sections 1.10.8, et al of Schedule 1 of the Amended and Restated Operating Agreement etc, effective 6/28/10.

Filed Date: 04/29/2010.

Accession Number: 20100430-0202.

Comment Date: 5 p.m. Eastern Time on Thursday, May 20, 2010.

Docket Numbers: ER10-1138-000.

Applicants: NorthWestern Corporation.

Description: NorthWestern Corporation submits revisions to Schedule 3, Regulations and Frequency Response Service of the Open Access Transmission Tariff.

Filed Date: 04/29/2010.

Accession Number: 20100430-0201.

Comment Date: 5 p.m. Eastern Time on Thursday, May 20, 2010.

Take notice that the Commission received the following public utility holding company filings:

Docket Numbers: PH10-14-000.

Applicants: PPL Corporation.

Description: Updated FERC-65B Waiver Notification of PPL Corporation.

Filed Date: 04/29/2010.

Accession Number: 20100429-5181.

Comment Date: 5 p.m. Eastern Time on Thursday, May 20, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-11092 Filed 5-10-10; 8:45 am]

BILLING CODE 6717-01-P